DEPARTMENT OF THE TREASURY

Internal Revenue Service

Open Meeting of the Area 5 Taxpayer Advocacy Panel (That Represents the States of North Dakota, South Dakota, Minnesota, Iowa, Nebraska, Kansas, Missouri, Oklahoma, and Texas); Correction

AGENCY: Internal Revenue Service (IRS), Treasury.

ACTION: Correction to notice.

SUMMARY: This document corrects a notice regarding an Open Meeting of the Area 5 Taxpayer Advocacy Panel that was published in the Federal Register on Thursday, March 11, 2004 (69 FR 11710). The Taxpayer Advocacy Panel is soliciting public comments, ideas and suggestions on improving customer service at the IRS.

FOR FURTHER INFORMATION CONTACT: Audrey Y. Jenkins at 1-888-912-1227(toll-free), or 718-488-2085 (non toll-free).

SUPPLEMENTARY INFORMATION:

Background

This notice reflects changes made to the date of the open meeting of the Area 5 Taxpayer Advocacy Panel.

Need for Correction

As published, this notice contains errors that may prove to be misleading and are in need of clarification.

Correction of Publication

Accordingly, this notice, which is the subject of FR Doc. 04-5411, is corrected as follows:

1. On page 11710, column 2, under the caption DATES, line 2, the language “Monday, April 5, 2004.” is corrected to read “Monday, April 12, 2004.”.

2. On page 11710, column 2, under the caption SUPPLEMENTARY INFORMATION, lines 3 and 4, the language “Advocacy Panel will be held Monday, April 5, 2004, from 3 p.m. to 4 p.m. c.t.” is corrected to read “Advocacy Panel will be held Monday, April 12, 2004, from 3 p.m. to 4 p.m. c.t.”.

Cynthia E. Grigsby,
Acting Chief, Publications and Regulations Branch, Legal Processing Division, Associate Chief Counsel (Procedures and Administration).

[FR Doc. 04-6470 Filed 3-22-04; 8:45 am]

BILLING CODE 4830-01-P